OFFICE OF PERSONNEL MANAGEMENT

Submission for Review: Certification of Vaccination Common Form 3206-0277

AGENCY: Office of Personnel Management.

ACTION: 30-Day notice and request for comments.

SUMMARY: The Office of Personnel Management (OPM) offers the general public and other federal agencies the opportunity to comment on the renewal of an existing information collection request (ICR) 3206-0277, Certification of Vaccination Common Form. As required by the Paperwork Reduction Act of 1995, as amended by the Clinger-Cohen Act, OPM is soliciting comments for this collection. The information collection was previously published in the Federal Register for a 60-day comment period on November 23, 2021. No comments were received for this information collection. The purpose of this notice is to allow an additional 30 days for public comments.

DATES: Comments are encouraged and will be accepted until March 21, 2022.

ADDRESSES: You may submit comments, identified by docket number and/or Regulatory Information Number (RIN) and title, by the following method:

Federal Rulemaking Portal: http://www.regulations.gov. Follow the instructions for submitting comments. The general policy for comments and other submissions from members of the public is to make these submissions available for public viewing at http://www.regulations.gov as they are received without change, including any personal identifiers or contact information.

FOR FURTHER INFORMATION CONTACT: A copy of this ICR, with applicable supporting documentation, may be obtained by contacting the Office of Privacy and Information Management, Office of Personnel Management, 1900 E Street NW, Washington, DC, Attn: PRA/Forms Manager, or via email at privacy@opm.gov.

SUPPLEMENTARY INFORMATION: In accordance with the Paperwork Reduction Act of 1995, (Pub. L. 104-13, 44 U.S.C. chapter 35), as amended by the Clinger-Cohen Act (Pub. L. 104-106), the Office of Personnel Management (OPM) intends to submit to the Office of Management and Budget (OMB) a request for renewal of an existing information request, Certification of Vaccination Common Form (3206-0277), for which OPM previously received emergency clearance and that published November 23, 2021 at 86 FR 66600. This information collection is necessary for implementing specific safety protocols for individuals in Federal workspaces based on their vaccination status.

The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Office of Personnel Management.

Title: Certification of Vaccination Common Form.

OMB Number: 3206-0277.

Affected Public: Individuals or Households.

Number of Respondents: 3,952.

Estimated Time per Respondent: 2 minutes (1/30 hour).

Total Burden Hours: 132 hours.

Office of Personnel Management.
Kellie Cosgrove Riley,
Director, Office of Privacy and Information Management.

[FR Doc. 2022-03457 Filed 2-15-22; 4:15 pm]

BILLING CODE 6325-39-P